ENVIRONMENTAL PROTECTION AGENCY

[FRL-7204-9]

Equipment Containing Ozone Depleting Substances at Industrial Bakeries—Extension

AGENCY: Environmental Protection Agency (EPA).

ACTION: Notice of bakery partnership program; extension of time.

SUMMARY: On February 6, 2002, EPA announced in a Federal Register notice the Bakery Partnership Program. Now, EPA is responding to a request from the baking industry for an extension of time to complete pollution prevention projects, namely substituting non-ozone depleting substances (non-ODS) for the refrigerants in certain baking equipment. Due to supply difficulties, suppliers of the alternative refrigerants can not complete delivery of the product for customers even though orders have been placed before the April 26, 2002 start date of this voluntary program. EPA has agreed to allow participating companies to qualify for a zero penalty status if they have in hand a binding purchase order by April 26, 2002 and complete the installation of the non-ODS system by May 31, 2002. Publication of this notice will complement other efforts of the baking industry and EPA to let participants know of this extension of time.

No comments are being sought on this notice.

FOR FURTHER INFORMATION CONTACT: Charles Garlow at EPA for further information at 202-564-1088 or garlow.charlie@epa.gov.

Dated: April 24, 2002.
Richard Biondi,
Associate Director, Air Enforcement Division.

April 17, 2002.

Anne Giesecke,

Vice President, Environmental Activities,

American Bakers Association,

1350 I Street NW, Suite 1290,

Washington DC 20005.

Dear Dr. Giesecke:

Thank you for continuing to work with us on the unforeseen problems that have arisen with the Bakery Partnership Program. You and your members have pointed out that several industrial suppliers of non-ozone depleting substances have been overwhelmed by the response to this Program and as a result are not able to service all the baking companies that want to install pollution preventing refrigerants in time for the April 26, 2002 deadline, in spite of their best efforts. The Federal Register notice of February 6, 2002, specified that those appliances converted to non-ODS systems prior to April 26, 2002 could avoid the $10,000 per appliance penalty. Thus, these Participating Companies facing supply problems would not be able to qualify for the waiver of the $10,000 per appliance penalty, as they had planned, unless some accommodation is made.

Therefore, in consultation with you and some of the suppliers of non-ODS refrigerants, we have agreed to the following: Participating Companies which have a binding purchase order or contract in hand by close of business April 26, 2002 for the conversion of an appliance to a non-ODS system will be treated as if the conversion had been completed by the April 26, 2002 deadline. The conversion to a non-ODS system must be completed and the non-ODS system must be fully operational by close of business on May 31, 2002 in order to qualify for this treatment. That is, the $10,000 per appliance penalty for such an appliance referenced here, will be waived as it is waived for those appliances that were fully converted to non-ODS systems prior to April 26, 2002 under the terms of the February 6, 2002 FR notice.

Baking companies that do not meet this new deadline for conversions to non-ODS systems will still be eligible to continue participating in the Partnership, but the appliances that do not meet the deadline will have to pay the $10,000 penalty. Participating baking companies must submit Annex A by April 30, 2002. Appliances for which this extension is sought must be listed on Annex A as non-ODS appliances. If work is not completed on certain appliances by May 31, 2002 then a revised Annex A must be submitted by June 7, 2002. A copy of the binding purchase order or other binding contract for the work showing an order date on or before April 26, 2002 must be maintained by the company in their file.

Please call me or Charlie Garlow [202-564-1088] of my staff if you have further questions.

Sincerely,

Richard Biondi,

Associate Director Air Enforcement Division.

cc: Julius Banks, OAR, GPD

[FR Doc. 02-10877 Filed 5-1-02; 8:45 am]

BILLING CODE 6560-50-P